ENVIRONMENTAL PROTECTION AGENCY

[FRL-6534-1]

Regulatory Reinvention (XL) Pilot Projects

AGENCY: Environmental Protection Agency (EPA).

ACTION: Notice of availability of Elmendorf Air Force Base Project XL Final Project Agreement and related documents.

SUMMARY: EPA is announcing the signing of the Project XL Final Project Agreement (FPA) for Elmendorf Air Force Base (EAFB).

DATES: The FPA was signed on December 15, 1999.

ADDRESSES: To obtain a copy of the Final Project Agreement, Fact Sheet, or public comments received, contact: Dave Bray, Office of Air Quality, OAQ-107, U.S. EPA Region 10, 1200 Sixth Avenue, Seattle, WA 98101, or L. Nancy Birnbaum, U.S. EPA, 401 M Street, SW, Room 1025WT (1802), Washington, DC 20460. The documents are also available via the Internet at the following location: “http://www.epa.gov/ProjectXL”. In addition, public files on the Project are located at EPA Region X in Seattle. Questions to EPA regarding the documents can be directed to Dave Bray at (206) 553-4253 or L. Nancy Birnbaum at (202) 260-2601. Additional information on Project XL, including documents referenced in this notice, other EPA policy documents related to Project XL, regional XL contacts, application information, and descriptions of existing XL projects and proposals, is available via the Internet at “http://www.epa.gov/ProjectXL'.

SUPPLEMENTARY INFORMATION: The FPA is a voluntary agreement developed by EAFB, stakeholders, the State of Alaska, and EPA. Project XL, announced in the Federal Register on May 23, 1995 (60 FR 27282), gives regulated sources the flexibility to develop alternative strategies that will replace or modify specific regulatory requirements on the condition that they produce greater environmental benefits.

On November 5, 1999, EPA announced the availability of the draft FPA in the Federal Register (64 FR 60443) and requested comments. As a result of that announcement, EPA received one comment from the Trustees for Alaska. The comment and EPA's response to it are available from the contacts listed in the ADDRESSES section and on the Project XL website at http://www.epa.gov/ProjectXL. No other comments were received.

The project will streamline the application, implementation, management, and renewal process for EAFB's Title V permit, through reduced scope of applicability, monitoring, and recordkeeping. EAFB estimates that total monitoring, recordkeeping, reporting, and overall management costs would decrease by about 80 percent, yielding about $1.5 million in savings. These realized cost savings will be directed toward pollution prevention (P2) opportunities. One such P2 project involves installation of a compressed natural gas (CNG) fueling station, the purchase of new CNG vehicles, and the conversion of certain base fleet vehicles to be capable of using CNG as an alternative fuel. Any additional cost savings will be applied to another pollution prevention project(s) agreed to by the parties. A list of additional feasible projects available at EAFB has been developed, along with the estimated costs and environmental benefits of each. While this list focuses primarily on hazardous air contaminant reduction projects, EAFB will hold at least one public meeting to discuss these and other possible pollution prevention opportunities. Upon concurrence of the parties, a supplemental agreement will be developed, setting forth the project(s) selected and any necessary measures to assure their performance.

Dated: January 11, 2000.
Richard T. Farrell,
Associate Administrator, Office of Reinvention.

[FR Doc. 00-2715 Filed 2-4-00; 8:45 am]

BILLING CODE 6560-50-P